DEPARTMENT OF ENERGY

Proposed Agency Information Collection

AGENCY: Department of Energy.

ACTION: Notice and Request for OMB Review and Comment.

SUMMARY: The proposed Industrial Labor Relations Collection will request information from the Department of Energy Facilities Management Contractors for contract administration, management oversight and cost control. The information collection will assist the Department in evaluating the implementation of the contractors' work force restructuring plans and apprise the Department of significant labor-management developments at DOE contractor sites. This information will be used to ensure that Department contractors recruit and retain a workforce in accordance with the terms of their contract and in compliance with statutory and regulatory requirements as identified by contract.

DATES: Comments regarding this collection must be received on or before April 23, 2009. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503.

And to: Karl E. Stoeckle, Business Management Specialist, LM-10.1, U.S. Department of Energy, 1000 Independence Avenue, SW., Washington, DC 20585. or by fax at 202-586-1540 or by e-mail to karl.stoeckle@hq.doe.gov.

FOR FURTHER INFORMATION CONTACT: Requests for additional information or copies of the information collection instrument and instructions should be directed to: Karl E. Stoeckle, Business Management Specialist, LM-10.1, U.S. Department of Energy, 1000 Independence Avenue, SW., Washington, DC 20585. or by fax at 202-586-1540 or by e-mail to karl.stoeckle@hq.doe.gov.

SUPPLEMENTARY INFORMATION: This information collection request contains: (1) OMB No. New; (2) Information Collection Request Title: Legacy Management Labor Relations; (3) Type of Request: New collection; (4) Purpose: The proposed collection will request wage and benefits information from the Department of Energy Facilities Management Contractors for use in contract administration, management oversight and cost control. This information will be used to ensure that Department contractors recruit and retain a workforce in accordance with the terms of their contract and in compliance with statutory and regulatory requirements as identified by contract. (5) Type of Respondents: Facility Management Contractors; (6) Estimated Number of Respondents: 35 annually; (7) Estimated Number of Burden Hours: 5.5 per respondent for total of 193 annually.

Statutory Authority: The statutory authority for collection of this data is the statute establishing the Department of Energy, that being the Department of Energy Organization Act, as amended, Public Law 95-91 (Aug. 4, 1977) (the “Act.”). It vests the Secretary of Energy with the executive direction and management function, authority, and responsibilities for the Department, including contract management. Section 644 of the Act, codified at 42 U.S.C. 7254, states that “the Secretary is authorized to prescribe such procedural and administrative rules as he may deem necessary or appropriate to administer and manage the functions now or hereafter vested in him.” Further, section 646(a) of the Act, codified at 42 U.S.C. 7256(a), provides that “[t]he Secretary is authorized to enter into and perform such contracts, leases, cooperative agreements, or other similar transactions with public agencies and private organizations and persons, and to make such payments (in lump sum or installments, and by way of advance or reimbursement) as he may deem to be necessary or appropriate to carry out functions now or hereafter vested in the Secretary.”

Issued in Washington, DC on March 16, 2009.
David Geiser,
Deputy Director, Office of Legacy Management.

[FR Doc. E9-6411 Filed 3-23-09; 8:45 am]

BILLING CODE 6450-01-P